DEPARTMENT OF ENERGY

Federal Energy Regulatory Commission

[Docket No. AD15-5-000]

Available Transfer Capability Standards for Wholesale Electric Transmission Services; Notice of Workshop

Take notice that Federal Energy Regulatory Commission (Commission) staff will convene a workshop to discuss actions the Commission could take to ensure that transmission providers continue to calculate and post available transfer capability (ATC) in a manner that ensures nondiscriminatory access to wholesale electric transmission services. This workshop is prompted by the filing by the North American Electric Reliability Corporation proposing changes to its ATC-related reliability standards,¹ and the initiative to replace these standards with similarly focused business practice standards to be developed by the North American Energy Standards Board (NAESB).² The workshop will be held on Thursday, March 5, 2015 from 8:45 a.m. to 5:00 p.m. in the Commission Meeting Room at the Federal Energy Regulatory Commission, 888 First Street NE., Washington, DC 20426. Commission members may participate in the workshop.

¹ NERC's proposal is currently pending before the Commission in the rulemaking: Modeling, Data, and Analysis Reliability Standards, Notice of Proposed Rulemaking, Docket No. RM14-7-000; 79 FR 36,269 (June 26, 2014).

² See, e.g., the December 18, 2014 status report filed by NAESB in Docket Nos. RM05-5-000 and RM14-7-000.

A supplemental notice will be issued prior to the workshop with further details regarding the agenda and organization of the workshop. The workshop will be open for the public to attend. Advance registration is not required, but is encouraged. Attendees may register at the following Web page: https://www.ferc.gov/whats-new/registration/03-05-15-form.asp.

Details also will be posted on the Calendar of Events on the Commission's Web site, www.ferc.gov.

Commission workshops are accessible under section 508 of the Rehabilitation Act of 1973. For accessibility accommodations, please send an email to accessibility@ferc.gov or call toll free 1-866-208-3372 (voice) or 202-502-8659 (TTY), or send a FAX to 202-208-2106 with the required accommodations.

For further information on this workshop, please contact:

Logistical Information: Sarah McKinley, Office of External Affairs. Federal Energy Regulatory Commission, 888 First Street NE., Washington, DC 20426 (202) 502-8368, sarah.mckinley@ferc.gov.

Technical Information: Christopher Young, Office of Energy Policy and Innovation, Federal Energy Regulatory Commission, 888 First Street, NE., Washington, DC 20426, (202) 502-6403, christopher.young@ferc.gov.

Legal Information Richard Wartchow, Office of the General Counsel, Federal Energy Regulatory Commission, 888 First Street, NE., Washington, DC 20426, (202) 502-8744, richard.wartchow@ferc.gov.

Dated: December 30, 2014.
Kimberly D. Bose,
Secretary.

[FR Doc. 2014-30960 Filed 1-5-15; 8:45 am]

BILLING CODE 6717-01-P